DEPARTMENT OF THE INTERIOR

Bureau of Land Management

[CA-930-5410-00-B178; CACA 44998]

Conveyance of Mineral Interests in California

AGENCY: Bureau of Land Management, Interior.

ACTION: Notice of segregation.

SUMMARY: An application has been filed for the conveyance of the Federally owned mineral interest in the tract of land described below in this notice. Publication of this notice temporarily segregates the mineral interests in the public lands covered by the application from appropriation under the mining and mineral leasing laws while the application is being processed.

FOR FURTHER INFORMATION CONTACT: Kathy Gary, Bureau of Land Management, California State Office, 2800 Cottage Way, Sacramento, California 95825, (916) 978-4677.

SUPPLEMENTARY INFORMATION: The tract of land referred to above in this notice consists of 160 acres of land, situated in Los Angeles County, and is described as follows:

San Bernardino Meridian, California

T. 5 N., R.17 W.,

Sec. 29, S1/2NE1/4;

Sec. 29, N1/2SE1/4

Under certain conditions, section 209(b) of the Federal Land Policy and Management Act of 1976 authorizes the sale and conveyance of the Federally owned mineral interests in land when the non-mineral, or so called “surface” interest in the land is not Federally owned. The objective is to allow consolidation of the surface and mineral interests when either one of the following conditions exist: (1) There are no known mineral values in the land; or (2) where continued Federal ownership of the mineral interests interferes with or precludes appropriate non-mineral development and such development is a more beneficial use of the land than mineral development.

In accordance with section 209(b) of the 1976 Act, on December 10, 2002, an application was filed for the sale and conveyance of the Federally owned mineral interest in the above-described tract of land. Publication of this notice segregates, subject to valid existing rights, the Federally owned mineral interests in the public lands referenced above in this notice from appropriation under the general mining and mineral leasing laws, while the application is being processed to determine if either one of the two specified conditions exists and, if so, to otherwise comply with the procedural requirements of 43 CFR part 2720. The segregative effect shall terminate: (i) Upon issuance of a patent or other document of conveyance as to such mineral interests; (ii) upon final rejection of the application; or (iii) two years from the date of filing the application, whichever occurs first.

Authority: 43 CFR 2720.1-1(b).

Dated: September 2, 2003.
Howard Stark,
Chief, Branch of Lands Management.

[FR Doc. 03-22972 Filed 9-9-03; 8:45 am]

BILLING CODE 4310-40-P